DEPARTMENT OF THE INTERIOR

National Park Service

[NPS-WASO-NRSS-NPS0028497; PPWONRADD3, PPMRSNR1Y.NM0000, 199P103601 (200); OMB Control Number 1024-0236]

Agency Information Collection Activities; Submission to the Office of Management and Budget for Review and Approval; Research Permit and Reporting System Applications and Reports

AGENCY: National Park Service, Interior.

ACTION: Notice of information collection; request for comment.

SUMMARY: In accordance with the Paperwork Reduction Act (PRA) of 1995, we, the National Park Service (NPS) are proposing to renew an information collection with revisions.

DATES: Interested persons are invited to submit comments on or before August 28, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Phadrea Ponds, NPS Information Collection Clearance Officer, 1201 Oakridge Drive, Fort Collins, CO 80525; or by email at phadrea_ponds@nps.gov. Please reference OMB Control Number 1024-0236 in the subject line of your comments.

FOR FURTHER INFORMATION CONTACT: To request additional information about this ICR by mail contact Bill Commins, Natural Resource Stewardship and Science by email at bill_commins@nps.gov; or by telephone at 202-513-7166. Individuals who are hearing or speech impaired may call the Federal Relay Service at 1-800-877-8339 for TTY assistance. You may also view the ICR at http://www.reginfo.gov/public/do/PRAMain.

SUPPLEMENTARY INFORMATION: In accordance with the PRA, 44 U.S.C. 3501 et seq. and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 18, 2020 (85 FR 15495). We received one response to that notice from the State of Alaska on May 18, 2020. The following comments were received from the State of Alaska requesting changes to the application form:

Comment #1

. . . we request the following question be added to the application, under the section “Study Schedule.” • Is your schedule time sensitive due to biological, weather, or other circumstances beyond your control?

Comment #2

To increase the utility and clarity of this application (as requested, we request it include a separate box (in item 3) under the section “Does your study propose to involve any of the following?” • Alaska Park Units, subject to ANILCA.

NPS Response

We examined the requests in the context that RPRS is a national system that applies equally to all parks that receive applications for Scientific Research and Collecting Permits. With respect to the first comment, the NPS recognizes that many parks, whether in Alaska, the conterminous states, the Caribbean, or Hawaii and the Pacific Islands, are subject to biological, weather, or other circumstances beyond the control of incoming field teams. We conclude that all parks issuing Scientific Research and Collecting Permits, including the parks in Alaska, are acutely aware of factors that can affect field schedules and as a consequence maintain appropriate flexibilities to work with permittees to modify field schedules as necessary. Because of this awareness, we conclude that park research coordinators do not require redundant notice, therefore we rejected this recommendation.

With respect to the second comment, there is already a section in the application titled: “Does your study propose to involve any of the following? (check all that apply)” that currently has a check box regarding “wilderness”. We concluded that adding a second check box specifying “wilderness in Alaska” for a permit for studies in Alaska would be unnecessary and redundant, therefore we rejected this recommendation.

As part of our continuing effort to reduce paperwork and respondent burdens, we are again soliciting comments from the public and other Federal agencies on the proposed ICR that is described below. We are especially interested in public comment addressing the following:

(1) Whether or not the collection of information is necessary for the proper performance of the functions of the NPS, including whether or not the information will have practical utility;

(2) The accuracy of our estimate of the burden for this collection of information, including the validity of the methodology and assumptions used;

(3) Ways to enhance the quality, utility, and clarity of the information to be collected; and

(4) How might the NPS minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: NPS policy requires that research studies and specimen collection conducted by researchers, other than NPS employees on official duty, require an NPS scientific research and collecting permit. The permitting process adheres to regulations codified in 36 CFR 2.1 which prohibit the disturbing, removing, or possessing of natural, cultural, and archeological resources. Additionally, regulations codified in 36 CFR 2.5 govern the collection of specimens in parks for the purpose of research, baseline inventories, monitoring, impact analysis, group study, or museum display.

As required by these regulations, a permitting system is managed for scientific research and collecting. NPS forms 10-741a, “Application for a Scientific Research and Collecting Permit” and 10-741b, “Application for a Science Education Permit,” are used to collect information from persons seeking a permit to conduct natural or social science research and collection activities in individual units of the National Park System. Individuals who receive a permit must report annually on the activities conducted under the permit using form 10-226, “Investigator's Annual Report.”

The information in this collection is used to manage the use and preservation of park resources, and to report on the status of permitted research and collecting activities. We encourage respondents to use RPRS to complete and submit applications and reports. Additional information about existing applications, reporting forms, guidance and explanatory material can be found on the RPRS website (https://irma.nps.gov/RPRS/).

With this renewal we are requesting clearance for the use of a new form, the “Permittee Field Check-In/Field Check-Out Report.” Information requested will give parks real time knowledge of what activities are taking place and where, ensuring field work conducted conforms with the permitted activity. For form users on the RPRS, the majority of the new form will be prepopulated using responses from the permit application.

Title of Collection: Research Permit and Reporting System Applications and Reports, 36 CFR 2.1 and 2.5.

OMB Control Number: 1024-0236.

Form Number: NPS Forms 10-226, 10-741a, and 10-741b.

Type of Review: Revision of a currently approved collection.

Respondents/Affected Public: Individuals; businesses; academic and research institutions; and Federal, State, local, and tribal governments.

Total Estimated Number of Annual Respondents: 8,590.

Total Estimated Number of Annual Responses: 8,590.

Estimated Completion Time per Response: Varies from 15 minutes to 83 minutes, depending on activity.

Total Estimated Number of Annual Burden Hours: 5,684.

Respondent's Obligation: Required to obtain or retain a benefit.

Frequency of Collection: On occasion for applications; annually for reports.

Total Estimated Annual Nonhour Burden Cost: None.

An agency may not conduct, or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2020-16365 Filed 7-28-20; 8:45 am]

BILLING CODE 4312-52-P